DEPARTMENT OF TRANSPORTATION

Federal Aviation Administration

Revision to the Date and Location of the Scoping Meetings for the Notice of Intent To Prepare a Joint Environmental Impact Statement/Environmental Impact Report for Ontario International Airport, Ontario, CA

AGENCY: Federal Aviation Administration, DOT.

ACTION: Revision to Notice to hold one (1) public scoping meeting and one (1) governmental and public agency scoping meeting.

SUMMARY: The Federal Aviation Administration (FAA) is issuing this revised notice to advise the public of a change in the date and location of governmental and public scoping meetings. A joint Environmental Impact Statement/Environmental Impact Report will be prepared for development recommended by the Master Plan for Ontario International Airport, Ontario, California. To ensure that all significant issues related to the proposed action are identified, one (1) public scoping meeting and one (1) governmental and public agency scoping meeting will be held.

FOR FURTHER INFORMATION CONTACT: Jennifer Mendelsohn, Environmental Protection Specialist, AWP-621.6, Southern California Standards Section, Federal Aviation Administration, Western-Pacific Region, P.O. Box 92007, Los Angeles, California 90009-2007, Telephone: 310/725-3637. Comments on the scope of the EIS/EIR should be submitted to the address above and must be received no later than 5 p.m. Pacific Daylight Time, on Monday, September 13, 2004.

SUPPLEMENTARY INFORMATION: The Federal Aviation Administration (FAA) published this Notice of Intent on June 9, 2004. This revised notice is to advise the public of a change in the date and location of the governmental and public scoping meetings. The FAA in cooperation with the city of Los Angeles, California, will prepare a joint Environmental Impact Statement/Environmental Impact Report for future development recommended by the Master Plan for Ontario International Airport (ONT). The need to prepare an Environmental Impact Statement (EIS) is based on the procedures described in FAA Order 5050.4A, Airport Environmental Handbook.

ONT is a commercial service airport located within a standard metropolitan statistical area and the proposed airside development includes relocation of the runways, separation of the runways, extension of a runway and construction and/or relocation of taxiway(s). The proposed landside improvements include additional terminals, additional gates, construction and/or expansion of parking lots, construction and/or expansion of access roads, construction, expansion and/or relocation of the existing surface transportation center, construction, expansion and/or relocation of the general aviation facilities, construction, expansion and/or relocation of airport maintenance area, construction, expansion and/or relocation of an airport administration facility, construction, expansion and/or relocation of aircraft safety facility (aircraft rescue and firefighting (ARFF) facility). The proposed project also may include an airport people mover (APM). The area around the airport contains non-compatible land uses in terms of aircraft noise; and the proposed development is likely to be controversial.

Significant growth in the demand for air travel through 2030 is expected in the ONT service area. The Southern California Association of Governments (SCAG) 2004 Regional Transportation Plan (RTP) predicts a doubling of regional passenger demand by 2030 and predicts that air cargo demand will more than triple. The RTP proposes to accommodate this growth at outlying airports rather than expansion of Los Angeles International Airport (LAX). The proposed LAX Master Plan supports this concept and plans to modernize facilities but to maintain the airport capacity at about 78 Million Annual Passengers (MAP). Other airports in the region also are constrained from growth, generally by either the limitations of their facilities or by court settlements that restrict growth to control environmental impacts to surrounding residents. The RTP relies on the Ontario International Airport to accommodate a larger share of the total regional passenger and air cargo demand in the future than it currently accommodates (6 to 6.5 million passengers used ONT in 2003) to serve this growing regional demand. The ONT Master Plan development alternatives, therefore, propose airport improvements that can accommodate passenger growth to 30 Million Annual Passengers or the estimated capacity of the two existing dependent runways.

The city of Los Angeles, pursuant to the California Environmental Quality Act of 1970 (CEQA) also will prepare an Environmental Impact Report (EIR) for the proposed development. In an effort to eliminate unnecessary duplication and reduce delay, the document to be prepared, will be a joint EIS/EIR in accordance with the President's Council on Environmental Quality Regulations described in 40 Code of Federal Regulations sections 1500.5 and 1506.2.

The Joint Lead Agencies for the preparation of the EIS/EIR will be the Federal Aviation Administration and the city of Los Angeles, California.

The following master planning development alternatives and the No Action/No Project Alternative are proposed to be evaluated in the EIS/EIR as described below:

No Action/No Project Alternative—The No Action/No Project Alternative represents the conditions that would occur at ONT without comprehensive Master Plan improvements. This alternative will not include any new facilities or improvements to existing facilities other than those that have independent utility, are unconnected actions to comprehensive Master Plan improvements and have (or are) undergoing separate environmental review. When forecasted operations are realized, current facilities would not provide an acceptable level of service to accommodate this increased passenger demand.

Alternative 1—Linear expansion of existing passenger terminals and aircraft apron (gates) on the north side of the airport, relocation of both runways to the south and east to create additional terminal area circulation, separation of the runways and construction of a center taxiway between north and south runways to improve airfield efficiency and safety, construction of structured auto parking lots, construction/expansion of terminal access roads, relocation and/or expansion of the existing ground transportation center, construction of additional economy parking lots, relocation and/or expansion of employee parking lot, expansion and/or relocation of general aviation facilities, expansion and/or relocation of airport maintenance area, construction and/or relocation of an airport administration facility, expansion/construction/relocation of aircraft safety facility (aircraft rescue and firefighting (ARFF) facility), impact to some existing south side facilities, an airport people mover (APM) system may be constructed, surface transportation improvements may be constructed, land acquisition of approximately 33 acres, construction of new parallel taxiways, relocation of existing parallel taxiways and construction/relocation of connector taxiways.

Alternative 2—Linear expansion of the existing passenger terminals on the north side of the airport, construction of a passenger terminal on the south side of the airport, no relocation of runways, extension of south runway to the east, relocation of Taxiway S, construction of structured auto parking lots, construction/expansion of terminal access roads including new ground access facilities for the new south terminal, relocation and/or expansion of the existing ground transportation center, construction of additional economy parking lots, relocation and/or expansion of employee parking lot, expansion and/or relocation of general aviation facilities, expansion and/or relocation of airport maintenance area, construction and/or relocation of an airport administration facility, expansion/construction/relocation of aircraft safety facility (aircraft rescue and firefighting (ARFF) facility), an airport people mover (APM) system may be constructed, surface transportation improvements may be constructed, impact to many of the existing south side facilities and land acquisitions of approximately 220 acres.

Comments and suggestions are invited from Federal, State and local agencies, and other interested parties to ensure that the full range of issues related to these proposed projects are addressed and all significant issues are identified. Written comments and suggestions concerning the scope of the EIS/EIR may be mailed to the FAA informational contact listed above and must be received no later than 5 p.m. Pacific Daylight Time, on Monday, September 13, 2004.

Public Scoping Meetings

The FAA and LAWA will jointly hold one (1) public and one (1) governmental agency scoping meeting to solicit input from the public and various Federal, State and local agencies that have jurisdiction by law or have specific expertise with respect to any environmental impacts associated with the proposed projects. A scoping meeting specifically for governmental and public agencies will now be held on Tuesday, August 17, 2004, from 1 p.m. to 3 p.m., Pacific Daylight Time at the Ontario Convention Center, 2000 Convention Center Way, Ontario, California 91764 (enter public parking lot off Holt Avenue). The public scoping meeting will be held at the same location on Tuesday, August 17, 2004, from 6 p.m. to 9 p.m. Pacific Daylight Time.

Issued in Hawthorne, California on Friday June 25, 2004.
Mark A. McClardy,
Manager, Airports Division, Western—Pacific Region, AWP-600.

[FR Doc. 04-15043 Filed 7-1-04; 8:45 am]

BILLING CODE 4910-13-M